COMMITTEE FOR THE IMPLEMENTATION OF TEXTILE AGREEMENTS

Determination Under the Textile and Apparel Commercial Availability Provision of the Dominican Republic-Central America-United States Free Trade Agreement (“CAFTA-DR”)

AGENCY: The Committee for the Implementation of Textile Agreements.

ACTION: Determination to add a product in unrestricted quantities to Annex 3.25 of the CAFTA-DR.

SUMMARY: The Committee for the Implementation of Textile Agreements (“CITA”) has determined that certain nylon/polyester dobby weave fabric, as specified below, is not available in commercial quantities in a timely manner in the CAFTA-DR countries. The product is added to the list in Annex 3.25 of the CAFTA-DR in unrestricted quantities.

DATES: Applicable Date: August 5, 2024.

FOR FURTHER INFORMATION CONTACT: Kayla Johnson, Office of Textiles and Apparel, U.S. Department of Commerce, (202) 482-2532 or kayla.johnson@trade.gov.

For Further Information Online: https://otexaprod.trade.gov/otexacapublicsite/requests/cafta under “Approved Requests,” File Number: CA2024002.

SUPPLEMENTARY INFORMATION:

Authority: The CAFTA-DR; Section 203(o)(4) of the Dominican Republic-Central America-United States Free Trade Agreement Implementation Act (“CAFTA-DR Implementation Act”), Public Law 109-53; the Statement of Administrative Action accompanying the CAFTA-DR Implementation Act; and Presidential Proclamation 7987 (February 28, 2006).

Background: The CAFTA-DR provides a list in Annex 3.25 for fabrics, yarns, and fibers that the Parties to the CAFTA-DR have determined are not available in commercial quantities in a timely manner in the territory of any Party. The CAFTA-DR provides that this list may be modified pursuant to Article 3.25.4, when the United States determines that a fabric, yarn, or fiber is not available in commercial quantities in a timely manner in the territory of any Party. See Annex 3.25 of the CAFTA-DR; see also section 203(o)(4)(C) of the CAFTA-DR Implementation Act.

The CAFTA-DR Implementation Act requires the President to establish procedures governing the submission of a request and providing opportunity for interested entities to submit comments and supporting evidence before a commercial availability determination is made. In Presidential Proclamation 7987, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to the CAFTA-DR (Modifications to Procedures for Considering Requests Under the Commercial Availability Provision of the Dominican Republic-Central America-United States Free Trade Agreement, 73 FR 53200) (“CITA's Procedures”).

On June 21, 2024, CITA received a Commercial Availability Request (“Request”) from Barnes & Thornburg LLP on behalf of The Powers Manufacturing Company d/b/a Powers Athletic (“Powers Athletic”) for certain nylon/polyester dobby weave fabric, as specified below. On June 25, 2024, in accordance with CITA's Procedures, CITA notified interested parties of the Request, which was posted on the dedicated website for CAFTA-DR Commercial Availability proceedings. In its notification, CITA advised that any Response with an Offer to Supply (“Response”) must be submitted by July 8, 2024, and any Rebuttal to a Response (“Rebuttal”) must be submitted by July 12, 2024, in accordance with sections 6 and 7 of CITA's Procedures. No interested entity submitted a Response to the Request advising CITA of its objection to the Request with an offer to supply the subject product in accordance with CITA's Procedures.

In accordance with section 203(o)(4)(C) of the CAFTA-DR Implementation Act, and section 8(c)(2) of CITA's Procedures, as no interested entity submitted a Response objecting to the Request and providing an offer to supply the subject product in accordance with CITA's Procedures, CITA has determined to add the specified fabric to the list in Annex 3.25 of the CAFTA-DR.

The subject product has been added to the list in Annex 3.25 of the CAFTA-DR Agreement in unrestricted quantities. A revised list has been posted on the dedicated website for CAFTA-DR Commercial Availability proceedings, at https://otexaprod.trade.gov/otexacapublicsite/shortsupply/cafta.

Specifications: Certain Nylon/Polyester Dobby Weave Fabric

HTS: 5407.73.2015, 5407.73.2060, 5407.53.2020, and 5407.53.2060

Fabric Type: Dobby Weave on a Triple Beam Air Jet Loom

Fabric Content: 78%-88% Polyester/12%-22% Nylon

Yarn Size:

Warp Yarn 1: Polyester 170Denier/144Filament Full Dull Air Textured Yarn (FDATY)

Warp Yarn 2: 166D/68F Nylon

Warp Yarn 3: Nylon 30D monofilament

Filling Yarn 1: Polyester 75D/72F Semi Dull Texturized

Filling Yarn 2: Polyester 170D/144F

Filling Yarn 3: Nylon 30D monofilament + 166D/68F Cordura (Nylon 6.6)

Note: Yarn size may vary by +/− 5% after processing. The yarn size designations describe a range of specifications for yarn in its greige condition. They are intended as specifications to be followed by the mill in sourcing yarn to produce the fabric. Weaving, dyeing, and finishing can alter the characteristic of the yarn as it appears in the finished fabric. This specification therefore includes yarns appearing in the finished fabric as finer or coarser than the designated yarn sizes, provided that the variation occurs after processing of the greige yarn and production of the fabric.

Thread Count:

Metric: Various

English: Various

Weight: 147-185 grams per sq. meter

Finished Density (ends/cm x picks/cm): 102-113 x 159-176

Face Side (Technical Face or Back): Technical Side

Width:

Metric: 137 to 150 cm, 142.24 cuttable

English: 54-60 inches, 57 cuttable

Dye Type: Yarn Dye of Various colors

Megan Crowe,
Acting Chairman, Committee for the Implementation of Textile Agreements.

[FR Doc. 2024-17233 Filed 8-2-24; 8:45 am]

BILLING CODE 3510-DR-P